DEPARTMENT OF COMMERCE

National Oceanic and Atmospheric Administration

Notice of Availability of a Draft Revised Management Plan for the North Carolina National Estuarine Research Reserve

AGENCY: Office for Coastal Management, National Ocean Service, National Oceanic and Atmospheric Administration, U.S. Department of Commerce.

ACTION: Notice of availability of a draft revised management plan; request for comments.

SUMMARY: The National Oceanic and Atmospheric Administration (NOAA) is soliciting comments from the public on a draft revised management plan for the North Carolina National Estuarine Research Reserve. The revision of the existing plan is necessitated by the applicable requirements of the National Estuarine Research Reserve System. The North Carolina Research Reserve revised plan is intended to replace the plan approved in 2009.

DATES: Comments must be received at the appropriate address (see ADDRESSES) on or before November 27, 2019.

ADDRESSES: Copies of the draft management plan can be downloaded or viewed on the internet at https://deq.nc.gov/about/divisions/coastal-management/nc-coastal-reserve/about-reserve/management-plans/review-2020. The document is also available by sending a written request to the point of contact identified below (see FOR FURTHER INFORMATION).

You may submit comments on this draft Management Plan by any of the following methods:

Electronic Submission: Submit all electronic public comments by email to Steph.Robinson@noaa.gov.

Mail: Submit written comments to Stephanie Robinson, Office for Coastal Management, 2234 South Hobson Avenue, Charleston, SC 29405.

Comments submitted by any other method or after the comment period may not be considered. All comments are a part of the public record and may be publicly accessible. Any personal identifying information (e.g., name, address) submitted voluntarily by the sender may also be accessible. NOAA will accept anonymous comments.

FOR FURTHER INFORMATION CONTACT: Stephanie Robinson of NOAA's Office for Coastal Management by email at Steph.Robinson@noaa.gov, phone at (843) 740-1174, or mail at Office for Coastal Management, 2234 South Hobson Avenue, Charleston, SC 29405.

SUPPLEMENTARY INFORMATION: Pursuant to 15 CFR 921.33(c), a state must revise its reserve management plan at least every five years. The North Carolina National Estuarine Research Reserve revised plan will replace the plan previously approved in 2009.

The revised management plan outlines a strategic plan; administrative structure; research and monitoring, education, stewardship, wetland science, and training programs of the reserve; resource protection and manipulation plans; restoration management plan; public access and visitor use plan; consideration for future land acquisition; and facility development to support reserve operations. This plan will focus on inspiring target audiences to protect coastal and estuarine ecosystems through training and education programs; advancing understanding of coastal and estuarine ecosystems and informing coastal management through research and monitoring; contributing to the study and appreciation of coastal and estuarine ecosystems through the stewardship of protected sites; and gaining recognition of the reserve in coastal and estuarine ecosystem research, training, education, and stewardship through effective administration and communication strategies.

Since 2009, the reserve has completed its habitat map and added marsh vegetation and surface elevation monitoring; conducted a habitat vulnerability assessment to understand marsh vulnerability; led a number of research and training initiatives related to living shorelines; increased education programming at the Masonboro Island component of the reserve; begun implementing Teachers on the Estuary (TOTE) training; expanded use of volunteers to conduct citizen science regarding sensitive species and site conditions; and implemented training focused on informing real estate professionals of coastal issues. The revised management plan will serve as the guiding document for the 10,568-acre research reserve for the next five years.

NOAA's Office for Coastal Management will conduct an environmental analysis in accordance with the National Environmental Policy Act on the proposed approval of the reserve's revised management plan. The public is invited to provide comment or information about any potential environmental impacts of the proposed action, and these comments will be used to inform NOAA's decision on whether to approve the revised management plan.

Authority: 16 U.S.C. 1451 et seq.

Keelin S. Kuipers,
Deputy Director, Office for Coastal Management, National Ocean Service, National Oceanic and Atmospheric Administration.

[FR Doc. 2019-23465 Filed 10-25-19; 8:45 am]

BILLING CODE 3510-08-P